DEPARTMENT OF JUSTICE

Notice of Lodging of Consent Decree Under the Clean Air Act and the Emergency Planning and Community Right-To-Know Act

Notice is hereby given that on April 19, 2010, a proposed Consent Decree (Decree) in United States v. Westward Seafoods, Inc., Civil Action No. 3:10-cv-00073-JWS, was lodged with the United States District Court for the District of Alaska.

In this action the United States, on behalf of the U.S. Environmental Protection Agency, sought penalties and injunctive relief from Westward Seafoods, Inc. for violations of the Clean Air Act and the Emergency Planning and Community Right-To-Know Act. The Complaint alleges violations including the burning of diesel fuel with excessive sulfur; operating three diesel generators while air pollution control devices were inoperable, resulting in excessive emissions of nitrogen oxides; and failing to respond to repeated requests for information from state and federal inspectors. The Decree would settle the United States' claims in return for a payment of $570,000 and improved operation and maintenance procedures and employee training.

The Department of Justice will receive for a period of thirty (30) days from the date of this publication comments relating to the Decree. Comments should be addressed to the Assistant Attorney General, Environment and Natural Resources Division, and either emailed to pubcomment-ees.enrd@usdoj.gov or mailed to P.O. Box 7611, U.S. Department of Justice, Washington, DC 20044-7611, and should refer to United States v. Westward Seafoods, Inc., D.J. Ref. 90-5-2-1-09168.

The Decree may be examined at the Office of the United States Attorney, Federal Building & U.S. Courthouse, 222 West 7th Ave., #9, Rm 253, Anchorage, AK 99513-7567. During the public comment period, the Decree may also be examined on the following Department of Justice Web site, to http://www.usdoj.gov/enrd/Consent_Decrees.html. A copy of the Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury or, if by email or fax, forward a check in that amount to the Consent Decree Library at the stated address.

Maureen Katz,
Assistant Chief, Environmental Enforcement Section, Environment and Natural Resources Division.

[FR Doc. 2010-9407 Filed 4-22-10; 8:45 am]

BILLING CODE 4410-15-P